INTERNATIONAL TRADE COMMISSION

[Investigation No. 731-TA-747 (Fourth Review)]

Fresh Tomatoes From Mexico; Termination of Review

AGENCY: United States International Trade Commission.

ACTION: Notice.

SUMMARY: The Commission instituted the subject five-year review on February 1, 2018, to determine whether termination of the suspended investigation on fresh tomatoes from Mexico would be likely to lead to continuation or recurrence of material injury to a domestic industry. On February 6, 2019, the Department of Commerce (“Commerce”) gave notice of its intent to withdraw from and terminate the 2013 Suspension Agreement on Fresh Tomatoes from Mexico and resume the underlying antidumping duty investigation (March 5, 2019). Effective May 7, 2019, Commerce withdrew from and terminated the suspension agreement and resumed the underlying antidumping duty investigation. Accordingly, since there is no longer a suspension agreement of which to conduct a five-year review, the U.S. International Trade Commission gives notice of the termination of its review involving fresh tomatoes from Mexico.

DATES: May 7, 2019.

FOR FURTHER INFORMATION CONTACT: Christopher W. Robinson (202-205-2542), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this review may be viewed on the Commission's electronic docket (EDIS) at https://edis.usitc.gov.

SUPPLEMENTARY INFORMATION:

Authority: This review is being terminated under authority of title VII of the Tariff Act of 1930 and pursuant to section 207.40(a) of the Commission's Rules of Practice and Procedure (19 CFR 207.40(a)). This notice is published pursuant to section 201.10 of the Commission's rules (19 CFR 201.10).

By order of the Commission.
Issued: May 8, 2019.
Lisa Barton,
Secretary to the Commission.

[FR Doc. 2019-09848 Filed 5-13-19; 8:45 am]

BILLING CODE 7020-02-P